NATIONAL COUNCIL ON DISABILITY

Advisory Committee Meeting/Teleconference

AGENCY: National Council on Disability (NCD).

SUMMARY: This notice sets forth the schedule of the forthcoming meeting/teleconference for NCD's Youth Advisory Committee. Notice of this meeting is required under Section 10(a)(1)(2) of the Federal Advisory Committee Act (Pub. L. 92-463).

Youth Advisory Committee: The purpose of NCD's Youth Advisory Committee is to provide input into NCD activities consistent with the values and goals of the Americans with Disabilities Act.

DATES: February 27, 2002, 4:00 p.m. EST.

FOR YOUTH ADVISORY COMMITTEE INFORMATION CONTACT: Gerrie Drake Hawkins, Ph.D., Program Specialist, National Council on Disability, 1331 F Street NW., Suite 850, Washington, DC 20004; 202-272-2004 (voice), 202-272-2074 (TTY), 202-272-2022 (fax), ghawkins@ncd.gov (e-mail).

Agency Mission: The National Council on Disability is an independent federal agency composed of 15 members appointed by the President of the United States and confirmed by the U.S. Senate. Its overall purpose is to promote policies, programs, practices, and procedures that guarantee equal opportunity for all people with disabilities, regardless of the nature of severity of the disability; and to empower people with disabilities to achieve economic self-sufficiency, independent living, and inclusion and integration into all aspects of society.

This committee is necessary to provide advice and recommendations to NCD on disability issues.

We currently have a membership reflecting our nation's diversity and representing a variety of disabling conditions from across the United States.

Open Meeting: This advisory committee meeting/teleconference of the National Council on Disability will be open to the public. Those interested in participating in the meeting/teleconference should contact the appropriate staff member listed above. Due to limited resources, only a few telephone lines will be available.

Records will be kept of all Youth Advisory Committee meetings/teleconferences and will be available after the meeting for public inspection at the National Council on Disability.

Signed in Washington, DC, on February 4, 2002.
Ethel D. Briggs,
Executive Director.

[FR Doc. 02-2953 Filed 2-6-02; 8:45 am]

BILLING CODE 6820-MA-M